DEFENSE BASE CLOSURE AND REALIGNMENT COMMISSION

Notice of the 2005 Defense Base Closure and Realignment Commission—Open Meeting (Salt Lake City, UT)

AGENCY: Defense Base Closure and Realignment Commission.

ACTION: Notice; 2005 Defense Base Closure and Realignment Commission—Open Meeting (Salt Lake City, UT).

SUMMARY: Notice is hereby given that the open meeting of the 2005 Defense Base Closure and Realignment Commission in Salt Lake City, Utah, will be held on June 6, 2005 from 2 p.m. to 4:30 p.m. at the Salt Palace Convention Center, 100 South West Temple, Salt Lake City, Utah 84101. The delay in determining the venue, and delay of this notice resulted from unanticipated conflicts in the schedules of the various Federal, state and local officials whose participation was judged essential to a meaningful public discussion. The Commission requests that the public consult the 2005 Defense Base Closure and Realignment Commission Web site, http://www.brac.gov, for updates.

The Commission will meet to receive comment from Federal, state and local government representatives and the general public on base realignment and closure actions in Idaho and Utah that have been recommended by the Department of Defense (DoD). The purpose of this regional meeting is to allow communities experiencing a base closure or major realignment action (defined as loss of 300 civilian positions or 400 military and civilian positions) an opportunity to voice their concerns, counter-arguments, and opinions in a live public forum. This meeting will be open to the public, subject to the availability of space. The Commission will not render decisions regarding the DoD recommendations at this meeting, but will gather information for later deliberations by the Commission as a whole.

DATES: June 6, 2005 from 2 p.m. to 4:30 p.m.

ADDRESSES: Salt Palace Convention Center, 100 South West Temple, Salt Lake City, Utah 84101.

FOR FURTHER INFORMATION CONTACT: Please see the 2005 Defense Base Closure and Realignment Commission Web site, http://www.brac.gov. The Commission invites the public to provide direct comment by sending an electronic message through the portal provided on the Commission's website or by mailing comments and supporting documents to the 2005 Defense Base Closure and Realignment Commission, 2521 South Clark Street, Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Dated: May 26, 2005.
Jeannette Owings-Ballard,
Administrative Support Officer.

[FR Doc. 05-10879 Filed 5-31-05; 8:45 am]

BILLING CODE 5001-06-P